DEPARTMENT OF HEALTH AND HUMAN SERVICES

Health Resources and Services Administration

Agency Information Collection Activities; Proposed Collection; Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Ryan White HIV/AIDS Treatment Modernization Act of 2006: Data Report Form: (OMB No. 0915-0253)—Revision

The Ryan White HIV/AIDS Program Annual Data Report (formerly called the CARE Act Data Report (CADR)) was initially created in 1999 by HRSA's HIV/AIDS Bureau. It has undergone revisions to incorporate the legislative changes that occurred in 2006. Grantees and their subcontracted service providers who are funded under Parts A, B, C, and D of the Ryan White HIV/AIDS Treatment Modernization Act of 2006, or Ryan White HIV/AIDS Program (codified under Title XXVI of the Public Health Services Act) fill out the report. All Parts of the Ryan White HIV/AIDS Program specify HRSA's responsibilities in the administration of grant funds, the allocation of funds, the evaluation of programs for the population served, and the improvement of the quantity and quality of care. Accurate records of the providers receiving Ryan White HIV/AIDS Program funding, the services provided, and the clients served continue to be critical to the implementation of the legislation and thus are necessary for HRSA to fulfill its responsibilities. Ryan White HIV/AIDS Program grantees are required to report aggregate data to HRSA annually. The Data Report form is filled out by grantees and their subcontracted service providers. The report has seven different sections containing demographic information about the service providers as well as the clients served, information about the type of core and support services provided as well as the number of clients served, information about counseling and testing services, clinical information about the clients served, demographic tables for Parts C and D, and information about the Health Insurance Program.

The primary purposes of the Data Report are to: (1) Characterize the organizations where clients receive services; (2) provide information on the number and characteristics of clients who receive Ryan White HIV/AIDS Program services; and (3) enable HAB to describe the type and amount of services a client receives. In addition to meeting the goal of accountability to the Congress, clients, advocacy groups, and the general public, information collected on the Data Report is critical for HRSA, State and local grantees, and individual providers to assess the status of existing HIV-related service delivery systems.

The response burden for grantees is estimated as:

Program under which grantee is funded | Number of grantee respondents | Responses per grantee | Hours to coordinate receipt of data reports | Total hour burden
Part A Only | 56 | 1 | 40 | 2,240
Part B Only | 59 | 1 | 40 | 2,360
Part C Only | 361 | 1 | 20 | 7,220
Part D Only | 90 | 1 | 20 | 1,800
Subtotal | 566 |  |  | 13,620

The response burden for service providers is estimated as:

Program under which provider is funded | Number of respondents | Responses per provider | Hours per response | Total hour burden
Part A Only | 792 | 1 | 26 | 20,592
Part B Only | 653 | 1 | 26 | 16,978
Part C Only | 108 | 1 | 44 | 4,752
Part D Only | 75 | 1 | 42 | 3,150
Funded under more than one program | 703 | 1 | 50 | 35,150
Subtotal | 2,331 |  |  | 80,622
Total for Both Grantees & Providers | 2,897 |  |  | 94,242

Send comments to Susan G. Queen, Ph.D., HRSA Reports Clearance Officer, Room 10-33, Parklawn Building, 5600 Fishers Lane, Rockville, MD 20857. Written comments should be received within 60 days of this notice.

Dated: August 7, 2007.
Alexandra Huttinger,
Acting Director, Division of Policy Review and Coordination.

[FR Doc. E7-15969 Filed 8-14-07; 8:45 am]

BILLING CODE 4165-15-P